DEPARTMENT OF THE INTERIOR

National Park Service

Notice of Intent to Repatriate a Cultural Item: American Museum of Natural History, New York, NY

AGENCY: National Park Service, Interior.

ACTION: Notice.

Notice is here given in accordance with the Native American Graves Protection and Repatriation Act (NAGPRA), 25 U.S.C. 3005, Sec. 7, of the intent to repatriate a cultural item in the possession of the American Museum of Natural History, New York, NY, that meets the definition of “object of cultural patrimony” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

The cultural item is a hat resembling a Tlingit spruce wood hat but made of brass. A row of sea lion whiskers inserted into the hat extends halfway around the base. The whiskers are held in place by twisted thread. Faceted blue, red, and amber beads are attached to the bases of most of the whiskers. Smaller blue and white beads are attached in various places along the length of some of the whiskers. The hat is topped with four cylinders surmounted by a four-scrolled finial, all made of brass.

The brass hat was procured by George Thorton Emmons at an unknown date. In 1894, the American Museum of Natural History acquired the brass hat from Mr. Emmons and accessioned this cultural item into its collection the same year.

The cultural affiliation of this item is Sitka Tlingit as indicated by museum records and by representatives of Central Council Tlingit and Haida Indian Tribes of Alaska during consultation. Central Council Tlingit and Haida Indian Tribes of Alaska has filed a claim for this cultural item on behalf of the Kiks.adi Clan of Sitka. Museum records and consultation with Central Council Tlingit and Haida Indian Tribes of Alaska indicate that the brass hat was given to a Sitka Kiks.adi Clan chief.

Officials of the American Museum of Natural History have determined that, pursuant to 25 U.S.C. 3001, Sec. 2 (3)(D), this cultural item has ongoing historical, traditional, or cultural importance central to the Native American group or culture itself, rather than property owned by an individual. Officials of the American Museum of Natural History also have determined that, pursuant to 25 U.S.C. 3001, Sec. 2 (2), there is a relationship of shared group identity that can be reasonably traced between this object of cultural patrimony and Central Council Tlingit and Haida Indian Tribes of Alaska.

Representatives of any other Indian tribe that believes itself to be culturally affiliated with this object should contact Craig Morris, Acting Director of Cultural Resources, American Museum of Natural History, Central Park West at 79th Street, New York, NY 10024, telephone (212) 769-5883, before April 7, 2003. Repatriation of this object of cultural patrimony to Central Council Tlingit and Haida Indian Tribes of Alaska on behalf of the Kiks.adi Clan may proceed after that date if no additional claimants come forward.

The American Museum of Natural History is responsible for notifying Central Council Tlingit and Haida Indian Tribes of Alaska, Sealaska Corporation, and Sitka Tribe of Alaska that this notice has been published.

Dated: January 21, 2003.
John Robbins,
Assistant Director, Cultural Resources Stewardship and Partnerships.

[FR Doc. 03-5508 Filed 3-6-03; 8:45 am]

BILLING CODE 4310-70-S